DEPARTMENT OF TRANSPORTATION

Office of the Secretary

Notice of Applications for Certificates of Public Convenience and Necessity and Foreign Air Carrier Permits Filed Under Subpart B (formerly Subpart Q) during the Week Ending June 1, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9824.

Date Filed: May 31, 2001.

Due Date for Answers, Conforming Applications, or Motion to Modify Scope: June 21, 2001.

Description: Application of Federal Express Corporation pursuant to 49 U.S.C. section 41102 and Subpart B, requesting renewal and amendment of its certificate of public convenience and necessity for Route 568 to provide scheduled foreign air transportation of property and mail between points in the United States, on the one hand, and points in Mexico, on the other hand.

Docket Number: OST-1995-766.

Date Filed: June 1, 2001.

Due Date for Answers, Conforming Applications, or Motion to Modify Scope: June 22, 2001.

Description: Application of American Airlines, Inc., pursuant to 49 U.S.C. section 41108 and 14 CFR part 377, requesting renewal of its certificate authority to serve between U.S. points and Barcelona, Spain on segment 3 of its certificate for Route 602.

Docket Number: OST-2001-9826.

Date Filed: June 1, 2001.

Due Date for Answers, Conforming Applications, or Motion to Modify Scope: June 22, 2001.

Description: Application of MEDjet International, Inc., pursuant to 49 U.S.C. section 41102 and Subpart B, requesting a certificate of public convenience and necessity to engage in (i) interstate charter air transportation of persons, property and mail; and, (ii) foreign air transportation of persons, property and mail.

Docket Number: OST-2001-9828.

Date Filed: June 1, 2001.

Due Date for Answers, Conforming Applications, or Motion to Modify Scope: June 22, 2001.

Description: Application of Northwest Airlines, Inc., pursuant to 49 U.S.C. 41102 and Subpart B, requesting an amendment of its Experimental Certificate of Public Convenience and Necessity for Route 564 (U.S.-Mexico) to incorporate segments authorizing service between Seattle and San Jose del Cabo/Puerto Vallarta/Mazatlan; (ii) San Francisco and Zihuatanejo; and (iii) Los Angeles and Manzanillo/Zihuatanejo.

Dorothy Y. Beard,
Federal Register Liaison.

[FR Doc. 01-14726 Filed 6-11-01; 8:45 am]

BILLING CODE 4910-62-P